DEPARTMENT OF STATE

[Public Notice 11893]

Notice of Department of State Sanctions Actions

SUMMARY: The Secretary of State has imposed sanctions on twenty-nine individuals.

DATES: The Secretary of State's determination regarding the twenty-nine individuals, and imposition of sanctions on the individuals, identified in the SUPPLEMENTARY INFORMATION section were effective on June 28, 2022.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (ii) to be responsible for or complicit in, or to have directly or indirectly engaged or attempted to engage in, any of the following for or on behalf of, or for the benefit of, directly or indirectly, the Government of the Russian Federation: (F) activities that undermine the peace, security, political stability, or territorial integrity of the United States, its allies, or its partners.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (A) the Government of the Russian Federation.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) to be a spouse or adult child of any person whose property and interests in property are blocked pursuant to subsection (a)(ii) or (iii) of this section.

The Secretary of State has determined, pursuant to Section 1(a)(ii)(F) of E.O. 14024, Halyna Viktorivna Danylchenko is responsible for or complicit in, or has directly or indirectly engaged or attempted to engage in, activities that undermine the peace, security, political stability, or territorial integrity of the United States, its allies, or its partners for or on behalf of, or for the benefit of, directly or indirectly, the Government of the Russian Federation.

The Secretary of State has determined, pursuant to Section 1(a)(iii)(A) of E.O. 14024, that Nikolay Valentinovich Andrianov, Vladimir Vladimirovich Artyakov, Natalya Vladimirovna Borisova, Vasily Yuryevich Brovko, Oleg Nikolaevich Evtushenko, Victor Nikolayevich Kiryanov, Yury Nikolayevich Koptev, Dmitry Yuryevich Lelikov, Vladimir Zalmanovich Litvin, Aleksander Yuryevich Nazarov, Pavel Mikhaylovich Osin, Aleksandr Nikolaevich Popov, Anatoly Eduardovich Serdyukov, Elena Oduliovna Sierra, Natalya Ivanova Smirnova, Sergey Anatolyevich Tsyb, Nikolai Anatolevich Volobuev, Maksim Vladimirovich Vybornykh, and Igor Nikolaevich Zaviyalov to be or have been a leader, official, senior executive officer, or member of the board of directors of an entity whose property and interests in property are blocked pursuant to E.O. 14024.

The Secretary of State has determined, pursuant to Section 1(a)(v) of E.O. 14024, that Dmitriy Vladimirovich Artyakov, Tatiana Vladimirovna Artyakova, Tina Kandelaki, Leontiy Andreyevich Kondrakhin, Melaniya Andreyevna Kondrakhina, Tatiana Borisovna Kiryanova, Sergey Anatolevich Serdyukov, Natalya Anatolevna Serdyukova, and Evgeniya Nikolaevna Vasileva are spouses or adult children of persons blocked whose property and interests in property are blocked pursuant to subsection (a)(ii) or (iii) of Section 1 of E.O. 14024.

Pursuant to E.O. 14024 this entity has been added to the Specially Designated Nationals and Blocked Persons List. All property and interests in property of this entity subject to U.S. jurisdiction are blocked.

Whitney Baird,
Principal Deputy Assistant Secretary, Bureau of Economic and Business Affairs, Department of State.

[FR Doc. 2022-26318 Filed 12-2-22; 8:45 am]

BILLING CODE 4710-AE-P